DEPARTMENT OF THE INTERIOR

Office of the Secretary

National Business Center, Financial Management & Budget Directorate; Privacy Act of 1974, as Amended; Amendments to Existing System of Records

AGENCY: Office of the Secretary, National Business Center, Financial Management & Budget Directorate, Interior.

ACTION: Proposed amendment to an existing System of Records notice.

SUMMARY: In accordance with the Privacy Act of 1974, as amended (5 U.S.C. 552a), the Office of the Secretary, National Business Center, Financial Management & Budget Directorate (NBC/FMB) is issuing public notice of its intent to modify an existing Privacy Act system of records, OS-13, “Aircraft Services Administrative Management and Fiscal Records” (formerly known as OS-08 and as OAS-2). The revisions will reflect a transfer of system ownership from the previous Office of Aircraft Services to the NBC—Financial Management & Budget Directorate (FMB), and will clarify and standardize the number of the system.

DATES: Comments must be received by November 4, 2009.

ADDRESSES: Send written comments to the U.S. Department of the Interior, Office of the Secretary, Privacy Officer, 1951 Constitution Avenue, NW., MS 116 SIB, Washington, DC 20240. You may also e-mail comments to Linda_Thomas@nbc.gov, or fax them to (202) 219-2374. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Associate Director, National Business Center, Financial Management & Budget Directorate, 1849 C Street, NW (MS 1346), Washington, DC 20240. You may also telephone (202) 208-3119.

SUPPLEMENTARY INFORMATION: The NBC/FMB is proposing to amend the system notice for INTERIOR/OS-8, “Aircraft Services Administrative Management and Fiscal Records” to identify a transfer of system ownership from the old Office of Aircraft Services to the NBC/FMB. Additionally, the number for this system of records, “Aircraft Services Administrative Management and Fiscal Records,” has previously been OS-08 and OAS-2, but is hereby revised to OS-13 to standardize the number within the Office of the Secretary numbering system. The changes identified to the system will be effective as proposed at the end of the comment period unless comments are received which would require a contrary determination. The Department will publish a revised notice if changes are made based upon a review of comments received.

Dated: September 21, 2009.
Linda S. Thomas,
Privacy Officer, Office of the Secretary.

Privacy Act; Systems of Records

SYSTEM NAME:

Aircraft Administrative Management and Fiscal Records, OS-13.

SYSTEM LOCATIONS:

(1) National Business Center, Financial Management & Budget Directorate, 1849 C Street, NW. (ms 1346), Washington, DC 20240,

(2) National Business Center, Financial Management & Budget Directorate, 7301 W. Mansfield, Denver, CO 80235.

CATEGORIES OF INDIVIDUALS COVERED BY THE SYSTEM:

Employees and former employees of the National Business Center, Aviation Management Directorate (formerly known as the Office of Aircraft Services), and employees transferred from AMD to the Financial Management & Budget Directorate, Informational Technology Directorate, and the Acquisition Services Directorate.

CATEGORIES OF RECORDS COVERED BY THE SYSTEM:

The system contains information relative to payroll records, including pay, leave and cost distribution records, including deductions for bonds, insurance, income taxes, allotments to financial institutions, overtime, authorizations, and related documents. Travel records, including administrative approvals, travel expenses claimed and/or paid, receipts for expenditure claims. Government transportation requests, travel advance accounts and related records. Safety records, including claims under the Military Personnel and Civil Employees Claims Act. Records of issuance of Government identification cards and Government driver's licenses. Related records concerning administrative and fiscal management.

AUTHORITY FOR MAINTENANCE OF THE SYSTEM:

5 U.S.C. 301; 3101, 5101-5115, 5501-5596, 5701-5709, 31 U.S.C. 66a, 240-243, 40 U.S.C. 483(b); 43 U.S.C. 1467, 44 U.S.C. 3103; Executive Order No. 11807.

ROUTINE USES OF RECORDS MAINTAINED IN THE SYSTEM, INCLUDING CATEGORIES OF USER AND THE PURPOSES OF SUCH USES:

The primary use of the records are (a) for administrative and fiscal management. Disclosure outside the Department of the Interior may be made:

(1) To the U.S. Department of the Treasury for preparation of (a) payroll checks, (b) payroll deduction and other checks to Federal, State and local agencies, and (c) checks for reimbursement of employees and others;

(2) To the Internal Revenue Service and to the State, Commonwealth, Territorial, and local governments for tax purposes,

(3) To the Civil Service Retirement System or Federal Employee Retirement System, and to other employee retirement systems;

(4) To another Federal agency to which an employee has transferred,

(5) To another agency having a subject matter interest in the records,

(6)(a) To any of the following entities or individuals, when the circumstances set forth in paragraph (b) are met:

(i) The U.S. Department of Justice (DOI);

(ii) A court or an adjudicative other administrative body:

(iii) A party in litigation before a court or an adjudicative or other administrative body; or

(iv) Any DOI employee acting in his or her individual capacity if DOI or DOJ has agreed to represent that employee or pay for private representation of the employee;

(b) When

(i) One of the following is a party to the proceeding or has an interest in the proceeding:

(A) DOI or any component of DOI:

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosures to be:

Relevant and necessary to the proceeding; and

Compatible with the purpose for which the records were compiled.

(7) To any criminal, civil, or regulatory law enforcement authority (whether Federal, State, territorial, local, Tribal or foreign) when a record, either alone or in conjunction with other information, indicates a violation or potential violation of law—criminal, civil or regulatory in nature, and the disclosure is compatible with the purpose for which the records were compiled.

(8) To Federal, State, local agencies or commercial businesses where necessary to obtain information relevant to the hiring or retention of an employee, or the issuance of a security clearance, license, pilot qualification card, grant or other benefit,

(9) State, local agencies or commercial businesses where necessary to obtain information relevant to the hiring or retention of an employee, or the issuance of a security clearance, license, pilot qualification card, grant or other benefit.

(10) To a Member of Congress from the record of an individual in response to an inquiry made at the request of that individual;

(11) To other Federal agencies conducting computer matching programs to help eliminate fraud and abuse and to detect unauthorized overpayments made to individuals.

(12) To other Federal agencies conducting computer matching programs to help eliminate fraud and abuse and to detect unauthorized overpayments made to individuals.

(13) To a congressional office in response to a written inquiry that an individual covered by the system, or the heir of such individual if the covered individual is deceased, has made to the office.

(14) To an official of another Federal agency to provide information needed in the performance of official duties related to reconciling or reconstructing data files or to enable that agency to respond to an inquiry by the individual to whom the record pertains.

(15) To representatives of the National Archives and Records Administration to conduct records management inspections under the authority of 44 U.S.C. 2904 and 2906.

(16) To State and local governments and Tribal organizations to provide information needed in response to court order and/or discovery purposes related to litigation, when the disclosure is compatible with the purpose for which the records were compiled.

(17) To an expert, consultant, or contractor (including employees of the contractor) of DOI that performs services requiring access to these records on DOI's behalf to carry out the purposes of the system.

(18) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(19) To the Office of Management and Budget during the coordination and clearance process in connection with legislative affairs as mandated by OMB Circular A-19.

(20) To the Department of the Treasury to recover debts owed to the United States.

(21) To the news media when the disclosure is compatible with the purpose for which the records were compiled.

Disclosure to consumer reporting agencies: Pursuant to 5 U.S.C. 552a(b)(12), records can be disclosed to consumer reporting agencies as they are defined in the Fair Credit Reporting Act.

POLICIES AND PRACTICES FOR STORING, RETRIEVING, ACCESSING, RETAINING, AND DISPOSING OF RECORDS IN THE SYSTEM:

RETRIEVABILITY:

Records may be retrieved by individual name or social security number.

SAFEGUARDS:

TECHNICAL SECURITY:

Access to records is limited to Departmental and contract personnel who are granted password access, and have an official need to use the records in the performance of their duties in accordance with requirements found in the DOI's Privacy Act regulations (43 CFR 2.51). Additionally, electronic records are protected by a firewall, network authentication (secure server), encryption, and file integrity auditing software meeting the requirements of 43 CFR 2.51 which conform to Office of Management and Budget and Departmental guidelines reflecting the implementation of the Federal Information Security Management Act, including compliance with applicable National Institute of Standards and Technology (NIST) guidelines.

PHYSICAL SECURITY:

Data is secured in locked file cabinets or in secured rooms accessible only by authorized personnel. The computer servers in which records are stored are located in computer facilities that are secured by alarm systems and off-master key access. A Privacy Act Warning Notice appears where records containing information on individuals are stored or displayed. Backup tapes are stored in a locked and controlled room in a secure, off-site location.

ADMINISTRATIVE SECURITY:

All Departmental and/or contract employees must undergo mandatory records, security, and IT training before access is granted, and annually thereafter. They must sign Rules of Behavior, and are supervised by Federal employees.

RETENTION AND DISPOSAL:

Records will be disposed of in accordance with the National Archives and Records Administration General Records Schedules.

SYSTEM MANAGER(S) AND ADDRESS:

Associate Director, Financial Management & Budget Directorate, 1849 C Street, NW (ms 1346), Washington, DC 20240.

NOTIFICATION PROCEDURE:

Inquiries regarding the existence of records shall be addressed to the appropriate System Manager. The request shall be in writing, signed by the requestor, and comply with the content requirements of 43 CFR 2.60.

RECORD ACCESS PROCEDURES:

A request for access shall be addressed to the appropriate System Manager. The request must be in writing and be signed by the requester. The request must meet the content requirements of 43 CFR 2.63.

CONTESTING RECORD PROCEDURES:

A petition for amendment shall be addressed to the appropriate System Manager and must meet the content requirements of 43 CFR 2.71.

[FR Doc. E9-23107 Filed 9-24-09; 8:45 am]

BILLING CODE 4310-RM-P